DEPARTMENT OF COMMERCE

International Trade Administration

[A-533-877]

Stainless Steel Flanges From India: Preliminary Results of Antidumping Duty Administrative Review, Preliminary No Shipment Determination, and Partial Rescission; 2020-2021

AGENCY: Enforcement and Compliance, International Trade Administration, Department of Commerce.

SUMMARY: The U.S. Department of Commerce (Commerce) preliminarily finds that certain producers/exporters of stainless steel flanges (flanges) from India made sales of subject merchandise in the United States at prices below normal value (NV) during the period of review (POR) October 1, 2020, through September 30, 2021. We preliminarily find that Emerson Process Management (Emerson) and Echjay Forgings Private Limited (Echjay) had no shipments during the POR. Finally, we are rescinding this review with respect to 14 companies. We invite interested parties to comment on these preliminary results.

DATES: Applicable November 4, 2022.

FOR FURTHER INFORMATION CONTACT: Benito Ballesteros or Christopher Maciuba, AD/CVD Operations, Office V, Enforcement and Compliance, International Trade Administration, Department of Commerce, 1401 Constitution Avenue NW, Washington, DC 20230; telephone: (202) 482-4725 or (202) 482-0413, respectively.

SUPPLEMENTARY INFORMATION:

Background

On November 29, 2021, Commerce initiated an administrative review of the antidumping duty order on flanges from India, in accordance with section 751(a) of the Tariff Act of 1930, as amended (the Act).¹ This administrative review covers 26 companies,² including the mandatory respondents Chandan Steel Limited (Chandan) and Good Luck Engineering Co., a unit of Goodluck India Limited (Goodluck). On June 24, 2022, we extended the deadline for the preliminary results of this administrative review until October 28, 2022.³

¹ See Initiation of Antidumping and Countervailing Duty Administrative Reviews, 86 FR 67685, 67686 (November 29, 2021) (Initiation Notice).

² Id. Commerce listed 42 company names in the Initiation Notice. Based on information provided to Commerce, we are treating “Good Luck Engineering Co.” and “Goodluck India Ltd.,” as the same entity. We also previously found “BFN Forgings Private Limited” to be the successor-in-interest to “Bebitz Flanges Works Private Limited.” See Stainless Steel Flanges from India: Preliminary Results of Antidumping Duty Administrative Review, Preliminary Successor-in-Interest Determination, and Partial Rescission; 2019-2020, 86 FR 60792 (November 4, 2021), unchanged in Stainless Steel Flanges from India: Final Results of Antidumping Duty Administrative Review; 2019-2020, 87 FR 27568 (May 9, 2022). As noted below, we are rescinding this review with respect to 14 of the 39 companies for which we initiated a review.

³ See Memorandum, “Extension of Deadline for Preliminary Results of 2020-2021 Antidumping Duty Administrative Review,” dated June 24, 2022.

For details regarding the events that occurred subsequent to the initiation of this review, see the Preliminary Decision Memorandum.⁴ A list of topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Results of the Antidumping Duty Administrative Review of Stainless Steel Flanges from India; 2020-2021,” dated concurrently with, and hereby adopted by, this notice (Preliminary Decision Memorandum).

Scope of the Order ⁵

⁵ See Stainless Steel Flanges from India: Antidumping Duty Order, 83 FR 50639 (October 9, 2018) (Order).

The merchandise covered by the Order is stainless steel flanges from India. For a full description of the scope, see the Preliminary Decision Memorandum.

Partial Rescission of Administrative Review

Pursuant to 19 CFR 351.213(d)(1), Commerce will rescind an administrative review, in whole or in part, if a party who requested the review withdraws the request within 90 days of the date of publication of the notice of initiation. Commerce received timely withdrawal requests with respect to 18 companies. For 14 of these companies, there are no longer any pending review requests and, accordingly, we are rescinding this review with respect to these 14 companies in accordance with 19 CFR 351.213(d)(1). For a complete list of the companies for which we are rescinding this review, see Appendix II.

Preliminary Determination of No Shipments

On December 22, 2022, we received a letter from Emerson notifying Commerce that it had no exports, sales, or entries of subject merchandise during the POR.⁶ Commerce issued a no shipment inquiry to U.S. Customs and Border Protection (CBP), and CBP found no evidence of shipments from this company during the POR.⁷ Additionally, Echjay confirmed that it had no exports, sales, or entries of subject merchandise to the United States during the POR.⁸ Therefore, based on record evidence, we preliminarily determine that Emerson and Echjay had no shipments during the POR. Consistent with Commerce's practice, we find that it is not appropriate to rescind the review with respect to Emerson and Echjay, but rather to complete the review and issue appropriate instructions to CBP based on the final results of this review.

⁶ See Emerson's Letter, “Emerson Process Management No Shipments Letter,” dated December 22, 2021.

⁷ See Memorandum, “No Shipments Inquiry for Stainless Steel Flanges from India Produced and/or Exported by Emerson Process Management (A-533-877),” dated September 23, 2022.

⁸ See Echjay's Letter, “Echjay Supplemental Response of Anti-Dumping Duty Administrative Review for Period October 01, 2020 to September 30, 2021,” dated June 16, 2022, at 1-2.

Rate for Non-Selected Companies

The Act and Commerce's regulations do not address the rate to be applied to companies not selected for individual examination when Commerce limits its examination in an administrative review pursuant to section 777A(c)(2) of the Act. Generally, Commerce looks to section 735(c)(5) of the Act, which provides instructions for calculating the all-others rate in a less-than-fair value (LTFV) investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available. We preliminarily calculated a 0.63 percent dumping margin for Chandan and a 49.30 percent dumping margin for Goodluck, the mandatory respondents in this review, and we have assigned to the non-selected companies a rate of 12.85 percent, which is the weighted average of Chandan's and Goodluck's margins based on publicly ranged data.⁹ For additional information, see the Preliminary Decision Memorandum at “Rates for Non-Selected Companies.”

⁹ See Memorandum, “Calculation of Margin for Respondents Not Selected for Individual Examination,” dated concurrently with this notice; see also, e.g., Xanthan Gum from the People's Republic of China: Preliminary Results of the Antidumping Duty Administrative Review, and Partial Rescission; 2018-2019, 85 FR 75686, 74687 (November 23, 2020), unchanged in Xanthan Gum from the People's Republic of China: Final Results of Antidumping Duty Administrative Review; 2018-2019, 86 FR 16189 (March 26, 2021); Emulsion Styrene-Butadiene Rubber from the Republic of Korea: Preliminary Results of the Administrative Review of the Antidumping Duty Order; 2018-2019, 85 FR 39534 (July 1, 2020), unchanged in Emulsion Styrene-Butadiene Rubber from the Republic of Korea: Final Results of the Administrative Review of the Antidumping Duty Order; 2018-2019, 85 FR 67512 (October 23, 2020); Albemarle Corp. v. United States, 821 F. 3d 1345 (Fed. Cir. 2016).

Methodology

Commerce is conducting this review in accordance with sections 751(a)(1) and (2) of the Act. We calculated export price and constructed export price in accordance with section 772 of the Act. We calculated NV in accordance with section 773 of the Act. For a full description of the methodology underlying these preliminary results, see the Preliminary Decision Memorandum.

Preliminary Results of Review

We preliminarily determine the following weighted-average dumping margins exist for the period October 1, 2020, through September 30, 2021:

Exporter/producer | Weighted- average dumping margin (percent)
Chandan Steel Limited | 0.63
Good Luck Engineering Co., a unit of Goodluck India Limited | 49.30
Companies Not Individually Examined ¹⁰ | 12.85

Assessment Rates

¹⁰ See Appendix III for a full list of companies not individually examined in this review.

Upon completion of this administrative review, Commerce shall determine, and CBP shall assess, antidumping duties on all appropriate entries. Pursuant to 19 CFR 351.212(b)(1), because the individually-examined respondents reported the entered value for their U.S. sales, we will calculate importer-specific ad valorem antidumping duty assessment rates based on the ratio of the total amount of antidumping duties calculated for the examined sales to the total entered value of those same sales. If either respondent's weighted-average dumping margin is zero or de minimis within the meaning of 19 CFR 351.106(c), or an importer-specific rate is zero or de minimis, we will instruct CBP to liquidate the appropriate entries without regard to antidumping duties.

In accordance with Commerce's “automatic assessment” practice, for entries of subject merchandise during the POR produced by each respondent where the company did not know that the merchandise was destined for the United States, we will instruct CBP to liquidate those entries at the all-others rate established in the original LTFV investigation (i.e., 7.00 percent) ¹¹ if there is no rate for the intermediate company(ies) involved in the transaction.¹²

¹¹ See Stainless Steel Flanges from India: Notice of Court Decision Not in Harmony with the Final Determination of Antidumping Investigation; Notice of Amended Final Determination, 86 FR 50325 (September 8, 2021) (Amended Final).

¹² For a full discussion of this practice, see Antidumping and Countervailing Duty Proceedings: Assessment of Antidumping Duties, 68 FR 23954 (May 6, 2003).

For the companies which were not selected for individual review, we intend to assign an assessment rate based on the review-specific average rate, calculated as noted in the “Preliminary Results of Review” section, above. The final results of this review shall be the basis for the assessment of antidumping duties on entries of merchandise covered by this review and for future deposits of estimated duties, where applicable.¹³

¹³ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies under review will be equal to the weighted-average dumping margin established in the final results of this review, except if the rate is de minimis (i.e., less than 0.50 percent), in which case the cash deposit rate will be zero; (2) for previously reviewed or investigated companies not covered by this review, the cash deposit rate will continue to be the company-specific rate published for the most recently-completed segment of this proceeding in which they were examined; (3) if the exporter is not a firm covered in this review, a prior review, or the original LTFV investigation, but the producer is, the cash deposit rate will be the rate established for the most recently-completed segment of this proceeding for the producer of the merchandise; and (4) the cash deposit rate for all other producers or exporters will continue to be 7.00 percent,¹⁴ the all-others rate established in the Amended Final. These cash deposit requirements, when imposed, shall remain in effect until further notice.

¹⁴ See Amended Final, 86 FR at 50326.

Disclosure and Public Comment

We intend to disclose the calculations performed to parties within five days of public announcement of the preliminary results or, if there is no public announcement, within five days of the date of publication of this notice.¹⁵ Pursuant to 19 CFR 351.309(c), interested parties may submit case briefs no later than 30 days after the date of publication of this notice. Rebuttal briefs, limited to issues raised in the case briefs, may be filed not later than seven days after the date for filing case briefs.¹⁶ Parties who submit case briefs or rebuttal briefs in this proceeding are encouraged to submit with each argument: (1) a statement of the issue; (2) a brief summary of the argument; and (3) a table of authorities.¹⁷ Case and rebuttal briefs should be filed using ACCESS.¹⁸ Executive summaries should be limited to five pages total, including footnotes. Note that Commerce has temporarily modified certain of its requirements for serving documents containing business proprietary information, until further notice.¹⁹

¹⁵ See 19 CFR 351.224(b).

¹⁶ See 19 CFR 351.309(d); see also Temporary Rule Modifying AD/CVD Service Requirements Due to COVID-19; Extension of Effective Period, 85 FR 41363 (July 10, 2020) (Temporary Rule).

¹⁷ See 19 CFR 351.309(c)(2) and (d)(2).

¹⁸ See generally 19 CFR 351.303.

¹⁹ See Temporary Rule.

Interested parties who wish to request a hearing must do so within 30 days of publication of these preliminary results by submitting a written request to the Assistant Secretary for Enforcement and Compliance using Enforcement and Compliance's ACCESS system.²⁰ Requests should contain the party's name, address, and telephone number, the number of participants, whether any participant is a foreign national, and a list of the issues to be discussed. Issues raised in the hearing will be limited to those raised in the respective case and rebuttal briefs.²¹ Parties are reminded that all briefs and hearing requests must be filed electronically using ACCESS and received successfully in their entirety by 5:00 p.m. Eastern Time on the due date. If a request for a hearing is made, Commerce intends to hold the hearing at a date and time to be determined.²² Parties should confirm by telephone the date, time, and location of the hearing two days before the scheduled date.

²⁰ See 19 CFR 351.310(c).

²¹ See 19 CFR 351.310.

²² See 19 CFR 351.310(d).

Unless otherwise extended, Commerce intends to issue the final results of this administrative review, including the results of its analysis of the issues raised in any written briefs, not later than 120 days after the date of publication of this notice, pursuant to section 751(a)(3)(A) of the Act and 19 CFR 351.213(h)(1).

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these results in accordance with sections 751(a)(1) and 777(i)(1) of the Act, and 19 CFR 351.213 and 351.221(b)(4).

Dated: October 28, 2022.
Lisa W. Wang,
Assistant Secretary for Enforcement and Compliance.

Appendix I—List of Topics Discussed in the Preliminary Decision Memorandum

I. Summary

II. Background

III. Scope of the Order

IV. Partial Rescission of Review

V. Preliminary Determination of No Shipments

VI. Rate for Non-Selected Companies

VII. Discussion of the Methodology

VIII. Recommendation

Appendix II—Companies for Which the Review Request Was Withdrawn and for Which Commerce Is Rescinding This Review

1. Armstrong International Pvt. Ltd.

2. Avini Metal Limited

3. CD Industries (Prop. Kisaan Engineering Works Pvt. Ltd.)

4. Fivebros Forgings Pvt. Ltd.

5. Fluid Controls Pvt. Ltd.

6. Pashupati Ispat Pvt. Ltd.

7. Pashupati Tradex Pvt., Ltd.

8. Rolex Fittings India Pvt. Ltd.

9. Rollwell Forge Pvt. Ltd.

10. Safewater Lines (I) Pvt. Ltd.

11. Saini Flange Pvt. Ltd.

12. Saini Flanges Private

13. Jay Jagdamba Forgings Private Limited

14. Jay Jagdamba Profile Private Limited

Appendix III—List of Companies Not Selected for Individual Examination

1. Ae Engineers & Exporters

2. Balkrishna Steel Forge Pvt. LTD

3. BFN Forgings Private Limited (formerly Bebitz Flanges Works Private Limited)

4. Broadway Overseas Ltd.

5. CHW Forge Private

6. Dart Global Logistics Pvt.

7. Dongguan Good Luck Furniture Industrial Co., Ltd.

8. Dongguan Good Luck Industrial Co., Ltd.

9. Expeditors International

10. G I Auto Private

11. G.I. Auto Pvt. Ltd.

12. Hilton Metal Forging Limited

13. Jai Auto Pvt. Limited

14. Jay Jagdamba Limited

15. Katariya Steel Distributors

16. Kisaan Die Tech Pvt Ltd

17. Pradeep Metals Limited

18. Rajan Techno Cast

19. Rajan Techno Cast Pvt. Ltd.

20. Shree Jay Jagdamba Flanges Private Limited

21. Transworld Enterprises

22. Viraj Profiles Ltd.

[FR Doc. 2022-24022 Filed 11-3-22; 8:45 am]

BILLING CODE 3510-DS-P